DEPARTMENT OF THE TREASURY

Internal Revenue Service

Internal Revenue Service Advisory Council (IRSAC) and Information Reporting Program Advisory Committee (IRPAC); Nominations

AGENCY: Internal Revenue Service, Department of the Treasury.

ACTION: Request for nominations.

SUMMARY: The Internal Revenue Service (IRS) requests nominations of individuals to be considered for selection as Internal Revenue Service Advisory Council (IRSAC) and Information Reporting Program Advisory Committee (IRPAC) members. Interested parties may nominate themselves and/or at least one other qualified person for membership. Nominations will be accepted for current vacancies and should describe and document the applicant's qualifications for membership. IRSAC is comprised of twenty-one (21) members, approximately half of these appointments will expire in November 2004; IRPAC is comprised of seventeen (17) members, approximately half of these appointments will expire in October 2004. It is important that the IRSAC and IRPAC continue to represent a diverse taxpayer and stakeholder base. Accordingly, to maintain membership diversity, selection is based on the applicant's qualifications as well as the segment or group he/she represents.

The Internal Revenue Service Advisory Council (IRSAC) provides an organized public forum for IRS officials and representatives of the public to discuss relevant tax administration issues. The council advises the IRS on issues that have a substantive effect on federal tax administration. As an advisory body designed to focus on broad policy matters, the IRSAC reviews existing tax policy and/or recommends policies with respect to emerging tax administration issues. The IRSAC suggests operational improvements, offers constructive observations regarding current or proposed IRS policies, programs, and procedures, and advises the IRS with respect to issues having substantive effect on federal tax administration.

The Information Reporting Program Advisory Committee (IRPAC) advises the IRS on information reporting issues of mutual concern to the private sector and the federal government. The committee works with IRS executives to provide recommendations on a wide range of information reporting issues. Membership is balanced to include representation from the taxpaying public, the tax professional community, small and large businesses, state tax administration, and the payroll community.

DATES: Written nominations must be received on or before July 30, 2004.

ADDRESSES: Nominations should be sent to Ms. Jacqueline Tilghman, National Public Liaison, CL:NPL:P, Room 7563 IR, 1111 Constitution Avenue, NW., Washington, DC 20224, Attn: IRSAC/IRPAC Nominations; or by e-mail: *public_liaison@irs.gov. Applications may be submitted by mail to the address above or faxed to 202-927-5253. However, if submitted via a facsimile, the original application must be received by mail, as National Public Liaison cannot consider an applicant nor process his/her application prior to receipt of an original signature. Application packages are available on the Tax Professional's Page, which is located on the IRS Internet Web site at http://www.irs.gov/taxpros/index.html.

FOR FURTHER INFORMATION CONTACT: Ms. Jacqueline Tilghman, 202-622-6440 (not a toll-free number).

SUPPLEMENTARY INFORMATION: Both the IRSAC and IRPAC were authorized under the Federal Advisory Committee Act, Public Law 92-463, the first Advisory Group to the Commissioner of Internal Revenue—or the Commissioner's Advisory Group (“CAG”)—was established in 1953 as a “national policy and/or issue advisory committee.” Renamed in 1998, the Internal Revenue Service Advisory Council (IRSAC) reflects the agency-wide scope of its focus as an advisory body, the IRSAC's primary purpose is to provide an organized public forum for senior IRS executives and representatives of the public to discuss relevant tax administration issues.

The final Conference Report of the 1989 Omnibus Budget Reconciliation Act contained an administration recommendation that a federal advisory committee be created to advise the IRS on information reporting issues. As a result, the Information Reporting Program Advisory Committee (IRPAC) was established in 1991. The primary purpose of the IRPAC is to provide an organized forum for IRS officials and public representatives to consider relevant information reporting issues.

Conveying the public's perception of IRS activities, the IRSAC and IRPAC are comprised of individuals who bring substantial, disparate experience and diverse backgrounds to the Council's/Committee's activities. Membership is balanced to include representation from the taxpaying public, the tax professional community, small and large businesses, state tax administration, and the payroll community.

IRSAC and IRPAC members are appointed by the Commissioner of the Internal Revenue Service and serve a term of three years. IRSAC working groups mirror the reorganized IRS and address policies and administration issues specific to three Operating Divisions (Small Business/Self Employed; Large Mid-Size Business; and Wage & Investment); IRPAC working groups mirror and address information reporting issues specific to four Operating Divisions (Small Business/Self Employed; Large Mid-Size Business; Wage & Investment and Tax Exempt Government Entities). Members are not paid for their services. However, travel expenses for working sessions, public meetings and orientation sessions, such as airfare, per diem, and transportation to and from airports, train stations, etc., are reimbursed within prescribed federal travel limitations.

Receipt of nominations will be acknowledged, nominated individuals contacted, and immediately thereafter, biographical information must be completed and returned to Ms. Jacqueline Tilghman in National Public Liaison within fifteen (15) days of receipt. In accordance with Department of the Treasury Directive 21-03, a clearance process including pre-appointment and annual tax checks, a Federal Bureau of Investigation criminal and subversive name check, and a security clearance will be conducted.

Equal opportunity practices will be followed for all appointments to the IRSAC and IRPAC in accordance with the Department of the Treasury and IRS policies. To ensure that the recommendations of the IRSAC/IRPAC have taken into account the needs of the diverse groups served by the IRS, membership shall include individuals who demonstrate the ability to represent minorities, women, and persons with disabilities.

Dated: May 19, 2004.
Chris Neighbor,
Designated Federal Official, National Public Liaison.

[FR Doc. 04-12344 Filed 5-28-04; 8:45 am]

BILLING CODE 4830-01-P